DEPARTMENT OF ENERGY

Federal Energy Regulatory Commission

[Project No. 13720-000]

Energy Exchange, Inc.; Notice of Preliminary Permit Application Accepted for Filing and Soliciting Comments, Motions To Intervene, and Competing Applications

August 23, 2010.

On May 5, 2010, and amended on July 19, 2010, Energy Exchange, Inc. filed an application, pursuant to section 4(f) of the Federal Power Act (FPA), proposing to study the feasibility of the Bear Creek Hydroelectric Project (Bear Creek Project). The Bear Creek Project would be located at Bear Creek Dam Municipal Water System within the city of Astoria, Clatsop County, Oregon. The sole purpose of a preliminary permit, if issued, is to grant the permit holder priority to file a license application during the permit term. A preliminary permit does not authorize the permit holder to perform any land-disturbing activities or otherwise enter upon lands or waters owned by others without the owners' express permission.

The Bear Creek Project would consist of: (1) The existing Bear Creek reservoir and two other reservoirs (known as # 2 and # 3); (2) the existing 21-inch diameter steel pipes; (3) two new powerhouses to be located at reservoir # 2 and reservoir # 3; (4) one 125-kilowatt (kw) turbine/generating unit, to be installed in each powerhouse; and (5) a new three-phase transmission line (voltage to be determined) to connect with the nearest tie-in point on a local electric grid system. The project would produce an estimated average annual generation of about 1,700 megawatt-hours.

Applicant Contact: Duane Pratt, Energy Exchange, Inc., 2711 Centerville Rd., Suite 120—PMB 7023, Wilmington, DE 19808; phone (208) 371-1285.

FERC Contact: Patrick Murphy (202) 502-8755.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site. http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http: //www.ferc.gov/docs-filing/elibrary.asp. Enter the docket number (P-13720-000) in the docket number field to access the document. For assistance, contact FERC Online Support.

Kimberly D. Bose,
Secretary.

[FR Doc. 2010-21470 Filed 8-27-10; 8:45 am]

BILLING CODE 6717-01-P